DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning the continuing collection of information, which is necessary for assessment and improvement of the delivery of disaster assistance. The forms serve as survey tools used to evaluate customer perceptions of effectiveness, timeliness and satisfaction with initial, continuing and final delivery of disaster-related assistance.

SUPPLEMENTARY INFORMATION: This collection is in accordance with Executive Order 12862 that requires all Federal agencies to survey customers to determine the kind and quality of services they want and their level of satisfaction with existing services. The Government Performance and Results Act (GPRA) requires agencies to set missions and goals and measure performance against them. FEMA will fulfill these requirements by collecting customer service and program information through surveys of the Recovery (RE) Division's external customers.

Collection of Information

Title: Federal Emergency Management Agency (FEMA) Public Assistance Program Evaluation and Customer Satisfaction Surveys and Individual Assistance Customer Satisfaction Surveys.

Type of Information Collection: Extension.

OMB Number: 1660-0036.

Form Numbers: Public Assistance Program Evaluation and Customer Satisfaction Survey, Registration Intake Survey, Helpline Survey, End of Disaster Survey, Housing Inspection Services Survey. (Note: There are no form numbers.)

Abstract: Federal agencies are required to survey their customers to determine the kind and quality of services customers want and their level of satisfaction with existing services. FEMA Managers use the survey results to measure program performance against standards for performance and customer service; measure achievement of GPRA objectives; and generally gauge and make improvements to disaster services that increase customer satisfaction and program effectiveness.

Affected Public: Individuals and households, businesses or other for-profit companies, not-for-profit institutions, farms, Federal Government, and State, Local or Tribal Governments.

Estimated Total Annual Burden Hours: 12, 210.

FEMA survey forms | Number of respondents | Frequency of response | Hours per response | Annual burden hours (rounded)
Public Assistance Survey—Mail | 30 | 50 | .30 | 450
Registration Intake Survey—Phone | 100 | 40 | .25 | 1,000
Helpline Survey—Phone | 100 | 40 | .25 | 1,000
End of Disaster Survey-Phone | 100 | 40 | .25 | 1,000
Inspection Services Survey—Mail | 750 | 40 | .25 | 7,500
SubTotal |  |  |  | 10,950
Focus Groups |  |  |  |
Public Assistance | 20 | 4 | 6 | 480
Individual Assistance for all 4 Survey Types | 10 | 24 | 3.25 | 780
SubTotal |  |  |  | 1,260
Grand Total |  |  |  | 12,210

Estimated Cost: $1,503,080.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Information Resources Management Division, Information Technology Services Directorate, Federal Emergency Management Agency, Emergency Preparedness and Response Directorate, Department of Homeland Security, 500 C Street, SW., Room 316, Washington, DC 20472.

FOR FURTHER INFORMATION CONTACT: Contact Maggie Billing, Program Analyst, Texas National Processing Service Center, Recovery Division, Response and Recovery Directorate, Federal Emergency Management Agency, Department of Homeland Security at 940-891-8709 or maggie.billing@dhs.gov for additional information. You may contact Ms. Anderson for copies of the proposed collection of information at facsimile number (202) 646-3347 or e-mail address: Information.Collections@fema.gov.

Dated: November 24, 2003.
Edward W. Kernan,
Division Director, Information Resources Management Division, Information Technology Services Directorate.

[FR Doc. 03-30172 Filed 12-3-03; 8:45 am]

BILLING CODE 9110-10-P